DEPARTMENT OF DEFENSE

Department of the Army

Privacy Act of 1974; System of Records

AGENCY: Department of the Army, DoD.

ACTION: Notice to alter a system of records.

SUMMARY: The Department of the Army is altering a system of records notices in its existing inventory of record systems subject to the Privacy Act of 1974, (5 U.S.C. 552a), as amended.

DATES: This proposed action will be effective without further notice on January 2, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on [date], to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 22, 2000.
L.M. Bynum,
Alternate OSD Federal Register Liaison Officer, Department of Defense.,

Deletions

A0070-25 DASG

System name:

Research Volunteer Registry (February 22, 1993, 58 FR 10002).

Reason:

Records have been incorporated into the system of records A0070-25 DASG, Medical Scientific Research Data Files.

A0070-16 DASG

System name:

Special Immunization System (July 14, 1999, 64 FR 37939).

Reason:

Records have been incorporated into the system of records A0070-25 DASG, Medical Scientific Research Data Files.

A0070-45 DASG

System name:

Sandfly Fever Files (February 22, 1993, 58 FR 10002).

Changes:

* * * * *

System name:

Delete entry and replace with ‘Medical Scientific Research Data Files’.

System location:

Delete entry and replace with ‘Primary locations: U.S. Army Medical Research and Development Command, 504 Scott Street, Fort Detrick, MD 21701-5009.

U.S. Army Chemical Research, Development, and Engineering Center, Aberdeen Proving Ground, MD 21010-5423;

Secondary locations: Letterman Army Institute of Research, Presidio of San Francisco, CA 94129-6800;

Walter Reed Army Institute of Research, Washington, DC 20307-5104;

U.S. Army Aeromedical Research Laboratory, Fort Rucker, AL 36362-5000;

U.S. Army Institute of Dental Research, Washington, DC 20307-5300;

U.S. Army Institute of Dental Research, Fort Sam Houston, TX 78234-6200;

U.S. Army Medical Bioengineering Research and Development Laboratory, Fort Detrick, MD 21701-5010;

U.S. Army Medical Research Institute of Chemical Defense, Aberdeen Proving Ground, MD 21010-5425;

U.S. Army Medical Research Institute of Infectious Diseases, 1425 Porter Street, Fort Detrick, MD 21702-5011;

U.S. Army Research Institute of Environmental Medicine, Natick, MA 01760-5007; and

U.S. Army Research Institute of Infectious Diseases, 1425 Porter Street, Fort Detrick, MD 21702-5011.’

Categories of Individuals covered by the system:

Delete entry and replace with ‘Volunteers who participate in the Sandfly Fever (Clinical Research Data) studies at the U.S. Army Medical Research Institute of Infectious Diseases; individuals who participate in research sponsored by the U.S. Army Medical Research and Development Command and the U.S. Army Chemical Research, Developments, and Engineering Center; and individuals at Fort Detrick who have been immunized with a biological product or who fall under the Occupational Health and Safety Act or Radiologic Safety Program.’

Categories of records in the system:

Delete entry and replace with ‘Participant's name, Social Security Number, age, race, date of birth, occupation, titers, body temperature, pulse, blood pressure, respiration, urinalysis, immunization, schedules, blood serology, amount of dosage, reaction to immunization radiologic agents, exposure level, health screening result, health test schedule, test protocols, challenge materials, inspection, after action reports, medical support plans, summaries of pre and post test physical exams parameter and other related documents.’

Authority for maintenance of the system:

Delete entry and replace with ‘10 U.S.C. 3013, Secretary of the Army; 10 U.S.C., Chapter 55, Medical and Dental Care; Army Regulation 70-25, Use of Volunteers as Subjects of Research; Army Regulation 70-45, Scientific and Technical Information Program; Occupational Safety and Health Administration Act of 1970; and E.O. 9397 (SSN).

Purpose(s):

Delete entry and replace with ‘To create a database of immunological or vaccinal data for research purposes.

To answer inquiries and provide data on health issues of individuals who participated in research conducted or sponsored by U.S. Army Medical Research Institute of Infectious Diseases, U.S. Army Medical Research and Development Command, and U.S. Army Chemical Research, Development, and Engineering Center.

To provide individual participants with newly acquired information that may impact their health.

To maintain and manage scheduling of health screening tests immunizations, physicals, safety and immunogenicity and other special procedures for a given vaccine or biosurveillance program, radiologic safety program and occupational health safety program.’

Routine uses of records maintained in the system, including categories of users and the purposes of such uses:

Add new paragraph as follows ‘To the Department of Veteran Affairs to assist in making determinations relative to claims for service connected disabilities and other such benefits.’

Storage:

Delete entry and replace with ‘Paper records in file cabinets and automated computer systems that are backed up daily.’

Safeguards:

Delete entry and replace with ‘Computerized and paper records are maintained in controlled areas. Access is restricted to authorized personnel only.’

Retention and disposal:

Delete entry and replace with ‘Special Immunization System Records are permanent; Research Volunteer Registry records are maintained for 65 years then destroyed; and Clinical Records Data records are maintained until they have no further research value then destroyed.

Systems manager(s) and address:

Delete entry and replace with ‘Commander, U.S. Army Medical Research Institute of Infectious Diseases, 1425 Porter Street, Fort Detrick, MD 21702-5011 for special immunization records.

Office of The Surgeon General, Headquarters, Department of Army, 5109 Leesburg Pike, Falls Church, VA 22041-3258 for all other records maintained in this system of records.

Notification procedures:

Delete entry and replace with ‘Individuals seeking to determine whether information about themselves is contained in the Special Immunization System and Clinical Research Data systems should address written inquiries to the U.S. Army Medical Research Institute of Infectious Diseases, 1425 Porter Street, Fort Detrick, MD 21702-5011.

All others should address their written inquiries to Office of The Surgeon General, Headquarters, Department of the Army, 5109 Leesburg Pike, Falls Church, VA 22041-3258.

For verification purposes the individual should provide full name, Social Security Number, military status or other information verifiable from the record itself.

For personal visits, the individual should be able to provide acceptable identification such as valid driver's license, employer, or other individually identifying number, and building pass.

Individual should provide his/her full name, address and telephone number, Social Security Number, date of birth, and any other personal data which would assist in identifying records pertaining to him/her.

Record and access procedures:

Change to read:

Individuals seeking access to information about themselves contained in the Special Immunization and System Clinical Research Data systems should address written inquiries to the U.S. Army Medical Research Institute of Infectious Diseases, 1425 Porter Street, Fort Detrick, MD 21702-5011. All others should address their written inquiries to Office of The Surgeon General, Headquarters, Department of the Army, 5109 Leesburg Pike, Falls Church, VA 22041-3258.

For verification purposes the individual should provide full name, Social Security Number, military status or other information verifiable from the record itself.

For personal visits, the individual should be able to provide acceptable identification such as valid driver's license, employer, or other individually identifying number, and building pass.

Individual should provide his/her full name, address and telephone number, Social Security Number, date of birth, and any other personal data which would assist in identifying records pertaining to him/her.

Record source categories:

Change to read:

From quantitative data obtained from investigative staff, research/test results, individuals concerned, interviews, clinical laboratory results/reports, immunization results, records and other relevant tests.

* * * * *

A0070-45 DASG

System name:

Medical Scientific Research Data Files.

System location:

Primary locations: U.S. Army Medical Research and Development Command, 504 Scott Street, Fort Detrick, MD 21701-5009.

U.S. Army Chemical Research, Development, and Engineering Center, Aberdeen Proving Ground, MD 21010-5423;

Secondary locations: Letterman Army Institute of Research, Presidio of San Francisco, CA 94129-6800;

Walter Reed Army Institute of Research, Washington, DC 20307-5104;

U.S. Army Aeromedical Research Laboratory, Fort Rucker, AL 36362-5000;

U.S. Army Institute of Dental Research, Washington, DC 20307-5300;

U.S. Army Institute of Dental Research, Fort Sam Houston, TX 78234-6200;

U.S. Army Medical Bioengineering Research and Development Laboratory, Fort Detrick, MD 21701-5010;

U.S. Army Medical Research Institute of Chemical Defense, Aberdeen Proving Ground, MD 21010-5425;

U.S. Army Medical Research Institute of Infectious Diseases, 1425 Porter Street, Fort Detrick, MD 21702-5011;

U.S. Army Research Institute of Environmental Medicine, Natick, MA 01760-5007; and

U.S. Army Research Institute of Infectious Diseases, 1425 Porter Street, Fort Detrick, MD 21702-5011.

Categories of individuals covered by the system:

Volunteers who participate in the Sandfly Fever (Clinical Research Data) studies at the U.S. Army Medical Research Institute of Infectious Diseases; individuals who participate in research sponsored by the U.S. Army Medical Research and Development Command and the U.S. Army Chemical Research, Developments, and Engineering Center; and individuals at Fort Detrick who have been immunized with a biological product or who fall under the Occupational Health and Safety Act or Radiologic Safety Program.

Categories of records in the system:

Participant's name, Social Security Number, age, race, date of birth, occupation, titers, body temperature, pulse, blood pressure, respiration, urinalysis, immunization, schedules, blood serology, amount of dosage, reaction to immunization radiologic agents, exposure level, health screening result, health test schedule, test protocols, challenge materials, inspection, after action reports, medical support plans, summaries of pre and post test physical exams parameter and other related documents.

Authority for maintenance of the system:

10 U.S.C. 3013, Secretary of the Army; 10 U.S.C., Chapter 55, Medical and Dental Care; Army Regulation 70-25, Use of Volunteers as Subjects of Research; Army Regulation 70-45, Scientific and Technical Information Program; Occupational Safety and Health Administration Act of 1970; and E.O. 9397 (SSN).

Purpose(s):

To create a database of immunological or vaccinal data for research purposes.

To answer inquiries and provide data on health issues of individuals who participated in research conducted or sponsored by U.S. Army Medical Research Institute of Infectious Diseases, U.S. Army Medical Research and Development Command, and U.S. Army Chemical Research, Development, and Engineering Center.

To provide individual participants with newly acquired information that may impact their health.

To maintain and manage scheduling of health screening tests immunizations, physicals, safety and immunogenicity and other special procedures for a given vaccine or biosurveillance program, radiologic safety program and occupational health safety program.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veteran Affairs to assist in making determinations relative to claims for service connected disabilities; and other such benefits.

The DoD ‘Blanket Routine Uses’ set forth at the beginning of the Army's compilation of systems of records notices also apply to this system.

Policies and practices for storing, retrieving, accessing, retaining, and disposing of records in the system:

Storage:

Paper records in file cabinets and automated computer systems that are backed up daily.

Retrievability:

By individual's name and Social Security Number.

Safeguards:

Computerized and paper records are maintained in controlled areas. Access is restricted to authorized personnel only.

Retention and Disposal:

Special Immunization System Records are permanent; Research Volunteer Registry records are maintained for 65 years then destroyed; and Clinical Research Data records are maintained until they have no further research value then destroyed.

Systems manager(s) and address:

Commander, U.S. Army Medical Research Institute of Infectious Diseases, 1425 Porter Street, Fort Detrick, MD 21702-5011 for special immunization records.

Office of The Surgeon General, Headquarters, Department of Army, 5109 Leesburg Pike, Falls Church, VA 22041-3258 for all other records maintained in this system of records.

Notification Procedures:

Individuals seeking to determine whether information about themselves is contained in this system of records should address written inquiries to the appropriate system manager.

For verification purposes the individual should provide full name, Social Security Number, military status or other information verifiable from the record itself.

For personal visits, the individual should be able to provide acceptable identification such as valid driver's license, employer, or other individually identifying number, and building pass.

Individual should provide his/her full name, address and telephone number, Social Security Number, date of birth, and any other personal data which would assist in identifying records pertaining to him/her.

Record source categories:

From quantitative data obtained from investigative staff, research/test results, individuals concerned, interviews, clinical laboratory results/reports, immunization results, records and other relevant tests.

Contesting record procedures:

The Army's rules for accessing records, and for contesting contents and appealing initial determinations are contained in Army Regulation 340-21; 32 CFR part 505; or may be obtained from the system manager.

Record source categories:

From quantitative data obtained from investigative staff and clinical laboratory reports.

Exemptions claimed for the system:

None.

[FR Doc. 00-30469 Filed 11-30-00; 8:45 am]

BILLING CODE 5001-10-U